DEPARTMENT OF COMMERCE

National Oceanic and Atmospheric Administration

RIN 0648-XA160

Marine Mammals; File No. 15530

AGENCY: National Marine Fisheries Service (NMFS), National Oceanic and Atmospheric Administration (NOAA), Commerce.

ACTION: Notice; receipt of application.

SUMMARY: Notice is hereby given that Robin Baird, PhD, Cascadia Research, 218 ½ W. 4th Avenue, Olympia, WA 98501, has applied in due form for a permit to take marine mammals in the Pacific Ocean for the purposes of scientific research.

DATES: Written, telefaxed, or e-mail comments must be received on or before March 28, 2011.

ADDRESSES: The application and related documents are available for review by selecting “Records Open for Public Comment” from the Features box on the Applications and Permits for Protected Species (APPS) home page, https://apps.nmfs.noaa.gov, and then selecting File No. 15530 from the list of available applications.

These documents are also available upon written request or by appointment in the following office(s): See SUPPLEMENTARY INFORMATION.

Written comments on this application should be submitted to the Chief, Permits, Conservation and Education Division, at the address listed below. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Laura Morse or Carrie Hubard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

Dr. Baird proposes to conduct research on forty species of cetaceans and unidentified mesoplodon and baleen species in all U.S. and international waters in the Pacific Ocean, including Alaska, Washington, Oregon, California, Hawaii, and other U.S. territories. Eight of the forty species to be targeted for research are listed as endangered or have a stock listed as endangered: blue whale (Balaenoptera musculus), fin whale (B. physalus), humpback whale (Megaptera novaeangliae), right whale (Eubalaena japonica), sei whale (B. borealis), beluga whale (Delphinapterus leucas) Cook Inlet stock, killer whale (Orcinus orca) southern resident stock, and sperm whale (Physeter macrocephalus). The false killer whale (Pseudorca crassidens) Hawaiian insular stock is proposed for listing under the ESA. Seven species of pinnipeds may be incidentally harassed from research activities, including three species listed as endangered: Steller sea lions (Eumetopias jubatus), Guadalupe fur seals (Arctocephalus townsendi), and Hawaiian monk seals (Monachus schauinslandi). The purposes of the proposed research are to study: (1) Population size and structure, (2) range and movement patterns, (3) diving and night-time behavior, (4) social organization, (5) feeding ecology, and (6) disease monitoring. Harassment of all species of cetaceans may occur through vessel approach for sighting surveys, photographic identification, behavioral research, opportunistic sampling (breath, sloughed skin, fecal material, and prey remains), and aerial over-flights for the purpose of locating animals and conducting aerial validation studies. All cetaceans species (except harbor porpoise, right whales, and Cook Inlet beluga whales) and unidentified mesoplodon and baleen species would be dart and/or suction-cup tagged. Import and export of marine mammal prey specimens, sloughed skin, fecal and breath samples obtained is requested for research purposes. Research would occur over a five-year period.

In compliance with the National Environmental Policy Act of 1969 (42 U.S.C. 4321 et seq.), a draft environmental assessment (EA) has been prepared to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Documents may be reviewed in the following locations:

Permits, Conservation and Education Division, Office of Protected Resources, NMFS, 1315 East-West Highway, Room 13705, Silver Spring, MD 20910; phone (301) 713-2289; fax (301) 427-2521;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 973-2935; fax (808) 973-2941.

Dated: February 18, 2011.
P. Michael Payne,
Chief, Permits, Conservation and Education Division, Office of Protected Resources, National Marine Fisheries Service.

[FR Doc. 2011-4292 Filed 2-24-11; 8:45 am]

BILLING CODE 3510-22-P